DEPARTMENT OF JUSTICE

Office of Justice Programs

[OMB Number 1121-0064]

Agency Information Collection Activities: Existing Collection; Comment Requested; Extension and Revision of Existing Collection; Annual Parole Survey, Annual Probation Survey, and Annual Probation Survey (Short Form)

ACTION: 30-Day Notice of Information Collection Under Review.

The Department of Justice (DOJ), Office of Justice Programs, will be submitting the following information collection to the Office of Management and Budget (OMB) for review and approval in accordance with the Paperwork Reduction Act of 1995. The proposed information collection is published to obtain comments from the public and affected agencies. This proposed information collection was published in the Federal Register Volume 76, Number 59, pages 17152-17153 on March 28, 2011, allowing for a 60 day public comment period.

The purpose of this notice is to allow an additional 30 days for public comments until July 5, 2011. This process is in accordance with 5 CFR 1320.10.

Written comments and/or suggestions concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Tom Bonczar at 202-616-3615 or the DOJ Desk Officer at 202-395-3176.

Written comments and/or suggestions regarding the items contained in this notice, especially the request written comments and suggestions from the public and affected agencies concerning the proposed collection of information are encouraged. Your comments should address one or more of the following points:

(1) Evaluate whether the proposed collections of information are necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Overview of This Information Collection

(1) Type of Information Collection: Extension of currently approved collection.

(2) Title of the Form/Collection: Annual Parole Survey, Annual Probation Survey, and Annual Probation Survey (Short Form).

(3) Agency form number, if any, and the applicable component of the Department of Justice sponsoring the collection: Forms: CJ-7 Annual Parole Survey; CJ-8 Annual Probation Survey; and CJ-8A Annual Probation Survey (Short Form). Corrections Statistics Program, Bureau of Justice Statistics, Office of Justice Programs, United States Department of Justice.

(4) Affected public who will be asked to respond, as well as a brief abstract: Primary: State Departments of Corrections or state probation and parole authority. Others: The Federal Bureau of Prisons, city and county courts and probation offices for which a central reporting authority does not exist. For the CJ-7 form, 55 central reporters (two state jurisdictions in California and one each from the remaining states, the District of Columbia, the Federal system, and one local authority) responsible for keeping records on parolees will be asked to provide information for the following categories:

(a) As of January 1, 2011 and December 31, 2011, the number of adult parolees under their jurisdiction;

(b) The number of adults entering parole during 2011 through discretionary release from prison, mandatory release from prison, a term of supervised release, or reinstatement of parole;

(c) The number of adults released from parole during 2011 through completion, incarceration, treatment, absconder status, transfer to another parole jurisdiction, or death;

(d) Whether the number of adult parolees reported as of December 31, 2011 represents individuals or cases;

(e) Whether adult parolees supervised out of state have been included in the total number of parolees on December 31, 2011, and the number of adult parolees supervised out of state;

(f) As of December 31, 2011, the number of adult parolees under their jurisdiction with a sentence of more than one year, or a year or less;

(g) As of December 31, 2011, the number of male and female adult parolees under their jurisdiction;

(h) As of December 31, 2011, the number of white (not of Hispanic origin), black or African American (not of Hispanic origin), Hispanic or Latino, American Indian or Alaska Native, Asian, Native Hawaiian or Pacific Islander, two or more races, or the number of adult parolees for which no information was available;

(i) As of December 31, 2011, the number of adult parolees who had as their most serious offense a sex offense, other violent offense, or a property, drug, weapons, or other offense;

(j) As of December 31, 2011, the number of adult parolees under their jurisdiction who were active, only have financial conditions remaining, inactive, absconders, or supervised out of state;

(k) As of December 31, 2011, the number of adult parolees under their jurisdiction who were supervised following a discretionary release, a mandatory release, a term of supervised release, a special conditional release, or other type of release from prison;

(l) Whether the parole authority supervised any adult parolees who were also on probation supervision, held in local jails, prisons, or an ICE holding facility, and the number of adult parolees held in each on December 31, 2011;

(m) Whether the parole authority used a Global Positioning System (GPS) to track the location of adult parolees, and if so, the number of adult parolees tracked using GPS on December 31, 2011, and of the number of those parolees tracked using GPS, the number who were sex offenders.

For the CJ-8 form, 306 reporters (one from each state, the District of Columbia, and the Federal system; and 254 from local authorities) responsible for keeping records on probations will be asked to provide information for the following categories:

(a) As of January 1, 2011 and December 31, 2011, the number of adult probationers under their jurisdiction;

(b) The number of adults entering probation during 2011 with and without a sentence to incarceration;

(c) The number of adults discharged from probation during 2011 through completion, incarceration, treatment, absconder status, a detainer or warrant, transfer to another parole jurisdiction, and death;

(d) Whether the number of adult probationers reported as of December 31, 2011 represents individuals or cases;

(e) As of December 31, 2011, the number of male and female adult probationers under their jurisdiction;

(f) As of December 31, 2011, the number of white (not of Hispanic origin), black or African American (not of Hispanic origin), Hispanic or Latino, American Indian or Alaska Native, Asian, Native Hawaiian or Pacific Islander, two or more races, or the number of adult probationers for which no information was available;

(g) As of December 31, 2011, the number of adult probationers under their jurisdiction who were sentenced for a felony, misdemeanor, or other offense type;

(h) As of December 31, 2011, the number of adult probationers who had as their most serious offense domestic violence, sex offense, other violent offense, property offense, drug law violation, driving while intoxicated or under the influence of alcohol or drugs, other traffic offense, or other offense;

(i) Whether adult probationers supervised out of state have been included in the total number of probationers on December 31, 2011, and the number of adult probationers supervised out of state;

(j) Whether the probation authority collects data on the number of adult probationers who had previously served a sentence to prison for the same offense for which they are on probation;

(k) Whether the probation authority supervised adult probationers who were also on parole supervision, any probationers held in local jails, prisons, community-based correctional facilities, or an ICE holding facility, and the number of adult probationers held in each on December 31, 2011;

(l) As of December 31, 2011, the number of adult probationers under their jurisdiction who had entered probation with a direct sentence to probation, a split sentence to probation, a suspended sentence to incarceration, or a suspended imposition of sentence;

(m) As of December 31, 2011, the number of adult probationers under their jurisdiction who were active, in a residential or other treatment program, only had financial conditions remaining, inactive, absconders, those on warrant status, or supervised out of state;

(n) Whether the probation authority used a Global Positioning System (GPS) to track the location of adult probationers, and if so, the number of adult probationers tracked using GPS on December 31, 2011, and of the number of those probationers tracked using GPS, the number who were sex offenders.

For the CJ-8A form, 160 reporters (from local authorities) responsible for keeping records on probationers will be asked to provide information for the following categories:

(a) As of January 1, 2011 and December 31, 2011, the number of adult probationers under their jurisdiction;

(b) The number of adults entering probation and discharged from probation during 2011;

(c) Whether the number of adult probationers reported as of December 31, 2011 represents individuals or cases;

(d) As of December 31, 2011, the number of male and female adult probationers under their jurisdiction;

(e) As of December 31, 2011, the number of adult probationers under their jurisdiction who were sentenced for a felony, misdemeanor, or other offense type.

The Bureau of Justice Statistics uses this information in published reports and for the U.S. Congress, Executive Office of the President, practitioners, researchers, students, the media, and others interested in criminal justice statistics.

(5) An estimate of the total number of respondents and the amount of time estimated for an average respondent to respond: 521 respondents each taking an average of 1.19 hours to respond.

(6) An estimate of the total public burden (in hours) associated with the collection: 622 annual burden hours.

If additional information is required, contact: Jerri Murray, Department Clearance Officer, United States Department of Justice, Justice Management Division, Policy and Planning Staff, Two Constitution Square, 145 N. Street, NE., Suite 2E-502, Washington, DC 20530 (phone: 514-4304).

Jerri Murray,
Department Clearance Officer, PRA, United States Department of Justice.

[FR Doc. 2011-13599 Filed 6-1-11; 8:45 am]

BILLING CODE 4410-18-P